DEPARTMENT OF HEALTH AND HUMAN SERVICES

National Institutes of Health

Office of the Director, National Institutes of Health; Notice of Meeting

Pursuant to section 10(a) of the Federal Advisory Committee Act, as amended (5 U.S.C. App.), notice is hereby given of a meeting of the NIH Scientific Management Review Board (SMRB). On October 14, 2014, SMRB members will meet to discuss challenges and solutions to engaging pre-college students in biomedical science, as well as ways to streamline the NIH grant review, award, and management process while maintaining proper oversight. Stakeholders and other experts will give presentations on these topics.

The NIH Reform Act of 2006 (Pub. L. 109-482) provides organizational authorities to HHS and NIH officials to: (1) Establish or abolish national research institutes; (2) reorganize the offices within the Office of the Director, NIH including adding, removing, or transferring the functions of such offices or establishing or terminating such offices; and (3) reorganize divisions, centers, or other administrative units within an NIH national research institute or national center including adding, removing, or transferring the functions of such units, or establishing or terminating such units. The purpose of the SMRB is to advise appropriate HHS and NIH officials on the use of these organizational authorities and identify the reasons underlying the recommendations.

The meeting will be open to the public, with attendance limited to space available. Individuals who plan to attend and need special assistance, such as sign language interpretation or other reasonable accommodations, should notify the Contact Person listed below in advance of the meeting. Times are subject to change.

Name of Committee: Scientific Management Review Board.

Date: October 14, 2014.

Time: 10:15 a.m. to 6:00 p.m.

Agenda: At this meeting, SMRB members will present preliminary findings and recommendations of the SMRB Working Group on Pre-college Engagement in Biomedical Science regarding ways NIH can cultivate sustained interest in biomedical science among students from pre-kindergarten through high school in order to contribute to a healthy biomedical workforce pipeline. Stakeholders in pre-college programs and education evaluation experts will give presentations on this topic. SMRB members will also hear from representatives of research funding agencies and organizations regarding their approach to grant review, award, and management. Time will be allotted on the agenda for public comment. Sign up for public comments will begin approximately at 9:15 a.m. on October 14, 2014, and will be restricted to one sign-in per person. In the event that time does not allow for all those interested to present oral comments, any interested person may file written comments with the committee by forwarding the statement to the Contact Person listed on this notice. The statement should include the name, address, telephone number, and when applicable, the business or professional affiliation of the interested person.

Place: National Institutes of Health, Building 31, 6th Floor, Conference Room 6, 31 Center Drive, Bethesda, MD 20892.

Contact Person: Juanita Marner, Office of Science Policy, Office of the Director, NIH, National Institutes of Health, 6705 Rockledge Drive, Suite 750, Bethesda, MD 20892, smrb@mail.nih.gov, (301) 435-1770.

The meeting will be webcast. The draft meeting agenda and other information about the SMRB, including information about access to the webcast, will be available at http://smrb.od.nih.gov.

In the interest of security, NIH has instituted stringent procedures for entrance onto the NIH campus. All visitor vehicles, including taxis, hotel, and airport shuttles will be inspected before being allowed on campus. Visitors will be asked to show one form of identification (for example, a government-issued photo ID, driver's license, or passport) and to state the purpose of their visit.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: September 11, 2014.
Melanie J. Gray,
Program Analyst, Office of Federal Advisory Committee Policy.

[FR Doc. 2014-22135 Filed 9-16-14; 8:45 am]

BILLING CODE 4140-01-P